DEPARTMENT OF LABOR

Employment and Training Administration

[TA-W-59,990]

Ademco; a Division of Honeywell Security and Custom Electronics; a Subsidiary of Honeywell International, Inc. Syosset, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 19, 2006, applicable to workers of Honeywell International, Inc., Honeywell Security and Custom Electronics, Syosset, New York. The notice will be published soon in the Federal Register.

At the request of the State agency, the Department reviewed the certification for workers of the subject firm. The workers are engaged in the production of alarm device equipment.

New findings show that there was a previous certification, TA-W-53,773, issued on January 6, 2004, for workers of Ademco, a division of Honeywell Security and Custom Electronics, a subsidiary of Honeywell International, Inc., Syosset, New York who were engaged in employment related to the production of alarm device equipment. That certification expires January 6, 2006. To avoid an overlap in worker group coverage, the certification is being amended to change the impact date from August 30, 2005 to January 7, 2006, for workers of the subject firm.

The amended notice applicable to TA-W-59,990 is hereby issued as follows:

All workers of Ademco a division of Honeywell Security and Custom Electronics, a subsidiary of Honeywell International, Inc., Syosset, New York, who became totally or partially separated from employment on or after January 7, 2006, through September 19, 2008, are eligible to apply for adjustment assistance under Section 223 of the Trade Act of 1974 and are also eligible to apply for alternative trade adjustment assistance under Section 246 of the Trade Act of 1974.

Signed at Washington, DC this 28th day of September 2006.
Elliott S. Kushner,
Certifying Officer, Division of Trade Adjustment Assistance.

[FR Doc. E6-16353 Filed 10-3-06; 8:45 am]

BILLING CODE 4510-30-P